DEPARTMENT OF COMMERCE

National Oceanic and Atmospheric Administration

[RTID 0648-XD096]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Ecosystem and Ocean Planning (EOP) Committee and Advisory Panel (AP) will hold a joint meeting. See SUPPLEMENTARY INFORMATION for agenda details.

DATES: The meeting will be held on Friday, July 7, 2023, from 10 a.m. through 3:30 p.m.

ADDRESSES: The meeting will take place over webinar with a telephone-only connection option. Details on how to connect to the meeting will be available at: www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting the EOP Committee and AP will continue the comprehensive review of the Council's Ecosystem Approach to the Fisheries Management (EAFM) risk assessment. The group will review previous Committee and AP feedback on existing and potentially new risk elements and their definitions in order to refine the list of risk elements for possible inclusion in an updated risk assessment. The Committee and AP will then provide input on the indicators and risk ranking criteria that will be used to measure and evaluate each risk element. The EOP Committee and AP will continue their review throughout the summer with an updated risk assessment for Council review and consideration in the fall of 2023. A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: June 16, 2023.
Diane M. DeJames-Daly,
Acting Deputy Director, Office of Sustainable Fisheries, National Marine Fisheries Service.

[FR Doc. 2023-13278 Filed 6-21-23; 8:45 am]

BILLING CODE 3510-22-P